DEPARTMENT OF HOMELAND SECURITY

Directorate of Science and Technology; Notice of Establishment of Homeland Security Science and Technology Advisory Committee (HSSTAC)

AGENCY: Office of the Undersecretary for Science and Technology, Department of Homeland Security.

ACTION: Notice.

SUMMARY: Section 311 of the Homeland Security Act of 2002, Pub. L. 107-296, established within the Department of Homeland Security the Homeland Security Science and Technology Advisory Committee (HSSTAC). The mission of the HSSTAC is to be a source of independent, scientific and technical planning advice for the Under Secretary for Science and Technology.

FOR FURTHER INFORMATION CONTACT: Dr. Ronald Taylor, Director, Office of Studies and Analysis, Department of Homeland Security Science and Technology Directorate, Washington, DC 20528, telephone (202) 205-5041, fax (202) 772-9916.

SUPPLEMENTARY INFORMATION:

Purpose

The HSSTAC shall make recommendations with respect to the activities of the Under Secretary for Science and Technology, including identifying research areas of potential importance to the security of the Nation. The HSSTAC is to be a source of independent, scientific and technical planning advice for the Under Secretary for Science and Technology.

Membership

The HSSTAC consists of 20 members appointed by the Under Secretary for Science and Technology. The HSSTAC members are (1) eminent in fields such as emergency response, research, engineering, new product development, business, and management consulting; (2) selected solely on the basis of established records of distinguished service; (3) not employees of the Federal Government; and, (4) selected as to provide representation of a cross-section of the research, development, demonstration, and deployment activities supported by the Under Secretary for Science and Technology.

Meetings

The HSSTAC will meet at least quarterly at the call of the Chair or whenever one-third of the members so request in writing.

Duration

The HSSTAC is expected to be needed on a continuing basis. However, the HSSTAC will terminate on November 25, 2005, pursuant to section 311(j) of the Homeland Security Act of 2002 unless extended.

Dated: December 16, 2003.
Charles E. McQueary,
Under Secretary for Science and Technology, Department of Homeland Security.

[FR Doc. 03-31447 Filed 12-19-03; 8:45 am]

BILLING CODE 4410-10-P